DEPARTMENT OF HOMELAND SECURITY

Coast Guard

33 CFR Part 117

[Docket No. USCG-2011-0960]

Drawbridge Operation Regulations; Trent River, New Bern, NC

AGENCY: Coast Guard, DHS.

ACTION: Notice of temporary deviation from regulations.

SUMMARY: The Commander, Fifth Coast Guard District, has issued a temporary deviation from the regulations governing the operation of the US 70 (Alfred Cunningham) Bridge, at mile 0.0, over the Trent River, at New Bern, NC. The deviation restricts the operation of the draw span to facilitate the general maintenance of the Bridge.

DATES: This deviation is effective from 8 p.m. October 26, 2011 through 11:59 p.m. on October 27, 2011.

ADDRESSES: Documents mentioned in this preamble as being available in the docket are part of docket USCG-2011-0960 and are available online by going to http://www.regulations.gov, inserting USCG-2011-0960 in the “Keywords” box, and then clicking “Search”. This material is also available for inspection or copying at the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Bill H. Brazier, Bridge Management Specialist, Fifth Coast Guard District, telephone (757) 398-6422, e-mail Bill.H.Brazier@uscg.mil. If you have questions on reviewing the docket, call Renee V. Wright, Program Manager, Docket Operations, (202) 366-9826.

SUPPLEMENTARY INFORMATION: The North Carolina Department of Transportation (NCDOT), who owns and operates this bascule lift bridge, has requested a temporary deviation from the current operating regulations set out in 33 CFR 117.843(a), to facilitate the general maintenance of the bridge.

In the closed position to vessels, the US 70 (Alfred Cunningham) Bridge, at mile 0.0, at New Bern, NC has a vertical clearance of 14 feet, above mean high water.

Under this temporary deviation, the drawbridge will be closed to vessels requiring an opening each day from 8 p.m. until 11:59 p.m. on October 26, 2011 and October 27, 2011. There are no alternate routes for vessels transiting this section of the Trent River.

The Coast Guard reviewed the 2010 drawbridge logs provided by NCDOT. In the month of October 2010, between the hours of 8 p.m. and 11:59 p.m., there were approximately four recorded vessel openings of the drawbridge. The drawbridge will be able to open for emergencies. Most vessel traffic utilizing this bridge consists of recreational boaters. October is outside of the high recreational boating season therefore, only a small number of boaters may be affected by this temporary closure. There are no alternate routes on this section of Trent River. Vessels that can pass through the bridge in the closed position may do so at any time.

The Coast Guard will inform all users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: October 18, 2011.
Waverly W. Gregory, Jr.,
Bridge Program Manager, By direction of the Commander, Fifth Coast Guard District.

[FR Doc. 2011-27721 Filed 10-25-11; 8:45 am]

BILLING CODE 9110-04-P